DEPARTMENT OF THE INTERIOR

Bureau of Indian Affairs

[256A2100DD/AAKE200000/A0A501010.000000]

Land Acquisitions; Coquille Indian Tribe, Medford Site, City of Medford, Jackson County, Oregon

AGENCY: Bureau of Indian Affairs, Interior.

ACTION: Notice.

SUMMARY: The Assistant Secretary—Indian Affairs made a final agency determination to acquire in trust 2.42 acres, more or less, of land known as the Medford Site in the City of Medford, Jackson County, Oregon, for gaming and other purposes.

DATES: This final determination was made on January 10, 2025.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: On the date listed in the DATES section of this notice, the Assistant Secretary—Indian Affairs made a final agency determination to acquire the Medford Site, consisting of 2.42 acres, more or less, in trust for the Coquille Indian Tribe under the authority of the Indian Reorganization Act of 1934 and the Coquille Restoration Act of June 28, 1989, (Pub. L. 101-42, 103 Stat. 92).

The Assistant Secretary—Indian Affairs, on behalf of the Secretary of the Interior, will immediately acquire title to the Medford Site in the name of the United States of America in trust for Coquille Indian Tribe upon fulfillment of all Departmental requirements. The 2.42 acres, more or less, are described as follows:

Legal Description of Property

Beginning at the Northeast Corner of Donation Land Claim No. 46, Township 37 South, Range 1 West, Willamette Meridian, Jackson County, Oregon; thence South 00°02′40″ East along the East line of said Donation Land Claim line 1163.22 feet {record South 1163.80 feet); thence South 51″15′00″ West,1338.47 feet to a ⅝ inch iron pin at the Point of Beginning; thence continue South 51″15′00″ West 468.33 feet to Intersect the Northeasterly Right of Way line of U.S. Highway No. 99 at a ⅝ inch iron pin; thence along said Highway Right of Way line on a spiral curve to the left (the long chord to which bears North 39″58′20″ West, 33.73 feet) to a ⅝ inch iron pin, said pin being a Point of Spiral Curve {P.S.C.), Station 490+28.72 of said Highway; thence 177.14 feet along said Highway line on an arc of a 5761.16 foot radius curve to the left (the long chord to which bears North 41″03′50″ West 177.14 feet) to a ⅝ inch iron pin, said point being a P.S.C., Station 492+4.90 of said Highway; thence along said Highway Right of Way Line on a spiral curve to the left {the long chord to which bears North 42°00′ West 12.00 feet) to a ⅝ inch iron pin; thence leaving said Right of Way Line North 51°15′00″ East, 477.40 feet to a ⅝ inch iron pin; thence South 38°36′27″ East, 222.70 feet to the Point of Beginning.

Containing 2.42 acres, more or less.

Authority: This notice is published in the exercise of authority delegated by the Secretary of the Interior to the Assistant Secretary—Indian Affairs by the Departmental Manual part 209, chapter 8, paragraph 8.1, and is published to comply with the requirements of 25 CFR 151.12(c)(2)(ii) that notice of the decision to acquire land in trust be promptly provided in the Federal Register.

Bryan Newland,
Assistant Secretary—Indian Affairs.

[FR Doc. 2025-00761 Filed 1-14-25; 8:45 am]

BILLING CODE 4337-15-P